DEPARTMENT OF LABOR

Occupational Safety and Health Administration

Susan Harwood Training Grant Program, FY 2003 Budget

AGENCY: Occupational Safety and Health Administration (OSHA), Labor.

ACTION: Notice of availability of funds and solicitation for grant applications.

SUMMARY: The Occupational Safety and Health Administration (OSHA) awards funds to nonprofit organizations to provide safety and health training and education in the workplace. This notice announces grant availability for three different categories of Susan Harwood Training Grants. The Targeted Topic category grants will support training in occupational safety and health on topics selected by OSHA. The OSHA Training Materials Development category grants will support the development, evaluation, and validation of occupational safety and health training materials on topics selected by OSHA. The Ergonomics Guidelines Training category grants will support the development and conduct of training programs that are based on the new industry-specific ergonomics guidelines being developed by OSHA for various industries. General descriptions of the three categories of grants are provided below.

1. Targeted Topic Grants

These grants will support training in occupational safety and health on eight different topics selected by OSHA.

Targeted Topic category grants will be awarded for 12 months. There is approximately $2.8 million available for this grant category. The average Federal award will be $150,000.

2. OSHA Training Materials Development Grants

Grants are available to nonprofit organizations to develop, evaluate, and validate training materials on eight different occupational safety and health topics that are to be tailored to a specific industry selected by OSHA, and target audience. Training materials are to be developed in formats that are suitable for hard-copy publication and distribution as well as for Internet publication and distribution.

OSHA Training Materials Development grants will be awarded for 12 months. There is approximately $4 million available for this grant category and an average Federal award will be $200,000.

3. Ergonomics Guidelines Training Grants

Grants are available to nonprofit organizations to develop and conduct training programs for workers and employers based on the four new industry-specific ergonomic guidelines being developed by OSHA. Information on the ergonomics guidelines is available on the OSHA Home page at http://www.osha.gov by searching the site index by selecting “E” and clicking on ergonomics, or from the Home page by looking under Safety/Health Topics and clicking on ergonomics.

Ergonomics Guidelines Training grants will be awarded for 12 months. There is approximately $1 million available for this grant category and an average Federal award will be $100,000.

This notice describes the scope of the grant program and provides information about how to get detailed grant application instructions. All applicants must obtain the detailed grant application instructions mentioned later in the notice before submitting an application.

Separate grant applications must be submitted by organizations interested in applying for a grant under more than one grant category and by organizations interested in applying for more than one topic under each category.

Authorities: The Occupational Safety and Health Act of 1970 and the Departments of Labor, Health and Human Services, and Education, and Related Agencies Appropriation Act, Pub. L. 108-7, authorize this program.

Due Date: Grant applications must be received by 4:30 p.m. central time, Thursday, July 3, 2003.

Address for Mailing Applications: Submit one signed original and two copies of each grant application to the attention of Grants Officer, U.S. Department of Labor, OSHA Office of Training and Education, Division of Training and Educational Programs, 2020 S. Arlington Heights Road, Arlington Heights, Illinois 60005.

Submissions are due July 3, 2003, by 4:30 p.m. central time at the specified address. Each applicant assumes the risk for ensuring a timely submission of its application. If, because of mail or other problems, the Department does not receive an application or receives it after the closing deadline, even if the application was timely mailed, the Department will not consider the application. To be considered for funding, hand-delivered applications must be received not later than 4:30 p.m. central time on the July 3, 2003, at the specified address.

FOR FURTHER INFORMATION CONTACT: Ernest Thompson, Chief, Division of Training and Educational Programs, or Cynthia Bencheck, Program Analyst, OSHA Office of Training and Education, 2020 S. Arlington Heights Road, Arlington Heights, Illinois 60005, telephone (847) 297-4810. This is not a toll-free number. E-mail: cindy.bencheck@osha.gov.

SUPPLEMENTARY INFORMATION:

What Is the Purpose of the Susan Harwood Training Grant Program?

Susan Harwood Training Grants provide funds to train workers and employers to recognize, avoid, and prevent safety and health hazards in their workplaces. The program emphasizes three areas.

• Educating workers and employers in small businesses. A small business has 250 or fewer workers.

• Training workers and employers about new OSHA standards.

• Training workers and employers about high risk activities or hazards identified by OSHA through its Strategic Plan, or as part of an OSHA special emphasis program.

Grantees are expected to provide occupational safety and health training programs, develop safety and health training and/or educational programs, recruit workers and employers for the training, and conduct and evaluate the training. Grantees are also expected to follow up with people trained by their program to determine what, if any, changes were made to reduce hazards in their workplaces as a result of the training.

What Are the Three Grant Categories Being Announced This Year?

1. Targeted Topic grants.

2. OSHA Training Materials Development grants.

3. Ergonomics Guidelines Training grants.

What Are the Training Topics for the Targeted Topic Grants?

Eight training topics were chosen for this grant announcement. OSHA may award grants for some or all of the listed Targeted Topics. Applicants wishing to apply for more than one grant topic must submit a separate grant application for each topic. Each grant application must address one of the following training topics.

1. Construction hazards. Programs that train workers and employers in the recognition and prevention of safety and health hazards in one of the following areas.

• Fall hazards in residential and commercial construction, especially wireless communication and high-definition television (HDTV) tower construction.

• Highway construction work zone and traffic control hazards.

• Noise hazards in the construction industry.

2. General Industry hazards. Programs that train workers and employers in the recognition and prevention of safety and health hazards in one of the following industries.

• Landscaping/horticultural services.

• Oil and gas field operations.

• Food processing industry involved in preserving fruits and vegetables.

• Industries involved in the manufacture of concrete, gypsum and plaster products.

• Blast furnace and basic steel products.

• Ship and boat building and repair.

• Public warehousing and storage.

3. Transportation fatalities.

• Programs that train workers and employers about the principles of safe driving and the prevention of transportation fatalities. Applicants should propose training programs applicable to one or more industries covered by the Occupational Safety and Health Act.

4. Workplace Violence.

• Programs that train workers and employers about what can be done to prevent workplace violence.

5. Emergency Preparedness and Response.

• Programs that train and assist employers in establishing workplace emergency response plans and that train workers and employers on preparing to respond to emergency situations at their workplaces. Applicants may propose training programs that address emergency preparedness for any industry covered by the Occupational Safety and Health Act. Training programs should include information on developing and maintaining comprehensive emergency action plans and focus on occupational safety and health requirements such as egress, evacuation policies and procedures, and fire safety protection plans. Other relevant workplace emergency preparedness topics that can be included or proposed under this topic include biological hazards and chemical hazards.

6. Lead Exposure.

• Programs that train construction or general industry workers and employers about the recognition of lead hazards within their industry and the prevention of exposure.

7. Silica Exposure.

• Programs that train construction or general industry workers and employers about the recognition of silica hazards within their industry and the prevention of exposure.

8. Small Business Topic (safety and health management systems).

• Programs that develop curricula and conduct training programs that promote the value of safety and health to small businesses and assist employers to establish safety and health management systems. The program should be based on business case studies tailored to specific industries that demonstrate the value of safety and health management systems.

What Are the Training Topics for the OSHA Training Materials Development Grants?

These grants are intended to assist nonprofit organizations in developing, evaluating and validating “classroom quality” training programs on topics selected by OSHA that can be used immediately by an instructor or student. The training materials are to be developed in a format that is suitable for hard-copy publication and distribution as well as Internet publication and distribution.

Grantees developing training materials under this grant category will be requested to post the approved final product training materials on their Web site for two years at no cost to users. OSHA may list the grantees' URL addresses to access these materials or directly link to the materials on the grantees' Web sites from OSHA's Web site. In addition, these grantees will also be requested to track and report quarterly to OSHA on the distribution and use of these training materials during the two years the materials are posted on their Web site. Grantees will collect and report on training materials product usage by tracking the number of times the grantee's training materials Web site was visited, and the number of times the training materials were downloaded.

Proposals should address one of the following eight subject areas of emphasis and should be tailored to the specific topic, industry and a selected target audience. OSHA may award grants for some or all of the listed training materials development subject areas.

1. Construction hazards. Programs suitable for self-study as well as for training others in the recognition and prevention of one of the following workplace hazards.

• Fall hazards in residential and commercial construction, especially wireless communication and high-definition television (HDTV) tower construction.

• Highway construction work zone safety and traffic control hazards.

• Noise hazards in the construction industry.

2. General industry hazards. Programs suitable for self-study as well as for training others in the recognition and prevention of safety and health hazards in one of the following industries.

• Landscaping/horticultural services.

• Oil and gas field operations.

• Food processing industry involved in preserving fruits and vegetables.

• Industries involved in the manufacture of concrete, gypsum and plaster products.

• Blast furnace and basic steel products.

• Ship and boat building and repair.

• Public warehousing and storage.

3. Transportation fatalities. Programs suitable for self-study as well as for training others in the principles of safe driving and the prevention of transportation fatalities.

4. Workplace Violence. Programs suitable for self-study as well as for training others about what can be done to prevent workplace violence.

5. Emergency Preparedness and Response. Programs suitable for employers to use for self-study on establishing workplace emergency response plans as well as for training others on preparing to respond to emergency situations at their workplaces. Applicants may propose training programs that address emergency preparedness for any industry covered by the Occupational Safety and Health Act.

Training programs should include information on developing and maintaining comprehensive emergency action plans and focus on occupational safety and health requirements such as egress, evacuation policies and procedures, and fire safety protection plans. Other relevant workplace emergency preparedness topics that can be included or proposed under this topic include biological hazards and chemical hazards.

6. Lead Exposure. Programs suitable for self-study as well as for training others in the recognition of lead hazards within their industry and the prevention of exposure. Program may address construction or general industry hazards and exposures.

7. Silica Exposure. Programs suitable for self-study as well as for training others in the recognition of silica hazards within their industry and the prevention of exposure. Program may address construction or general industry hazards and exposures.

8. Small Business Topic (safety and health management systems). Programs suitable for self-study as well as for training others that promote the value of safety and health to small businesses and assist employers to establish safety and health management systems. The program should be based on business case studies tailored to specific industries that demonstrate the value of safety and health management systems.

What Are the Topics for the Ergonomics Guidelines Training Grants?

Applicants will be expected to develop and conduct training programs for workers and employers based on the new industry-specific ergonomics guidelines being developed by OSHA for various industries. OSHA may award grants for some or all of the listed ergonomics guidelines industries.

Ergonomics Guidelines have been or are being developed for the following industries.

• Nursing Home Industry

• Retail Grocery Stores

• Poultry Processing Industry

• Shipyard Industry

Who Is Eligible To Apply for a Grant?

Any nonprofit organizations, including community-based and faith-based organizations, that are not an agency of a State or local government are eligible to apply. State or local government supported institutions of higher education are eligible to apply in accordance with 29 CFR part 95.

A 501(c)(4) nonprofit organization, as described in 26 U.S.C. 501(c)(4), that engages in lobbying activities will not be eligible for the receipt of Federal funds constituting an award, grant or loan. See 2 U.S.C. 1611.

Applicants other than State or local government supported institutions of higher education will be required to submit evidence of nonprofit status, preferably from the Internal Revenue Service (IRS).

What Can Grant Funds Be Spent On?

Grant funds can be spent on the following:

• Conducting training.

• Conducting other activities that reach and inform workers and employers about occupational safety and health hazards and hazard abatement.

• Developing educational materials for use in the training.

• For OSHA Training Materials Development category grants, software necessary to track number of visits to the grantee's training materials Web site and the number of times the training materials were downloaded.

Are There Restrictions on How Grant Funds Can Be Spent?

Grant funds may not be used for the following activities.

1. Any activity that is inconsistent with the goals and objectives of the Occupational Safety and Health Act of 1970.

2. Training involving workplaces that are not covered by the Occupational Safety and Health Act. Examples include State and local government workers in non-State Plan States and workers covered by section 4(b)(1) of the Act.

3. Production, publication, reproduction or use of training and educational materials, including newsletters and instructional programs that have not been reviewed by OSHA for technical accuracy.

4. Activities that address issues other than recognition, avoidance, and prevention of unsafe or unhealthy working conditions. Examples include workers' compensation, first aid, and publication of materials prejudicial to labor or management.

5. Activities that provide assistance to workers or employers in arbitration cases or other actions against employers, or that provide assistance to employers and workers in the prosecution of claims against Federal, State or local governments.

6. Activities that directly duplicate services offered by OSHA, a State under an OSHA-approved State Plan, or consultation programs provided by State designated agencies under section 21(d) of the Occupational Safety and Health Act.

What Other Grant Requirements Are There?

1. OSHA review of educational materials. OSHA will review all educational materials produced by the grantee for technical accuracy during development and before final publication. OSHA will also review training curricula and purchased training materials for accuracy before they are used. Grantees developing training materials must follow all copyright laws and document that their materials are free from copyright infringements.

When grant recipients produce training materials, they must provide copies of completed materials to OSHA before the end of the grant period. OSHA has a lending program that circulates grant-produced audiovisual materials. Audiovisual materials produced by the grantee as a part of its grant program will be included in this lending program. In addition, all materials produced by grantees must be provided to OSHA in hard copy as well as in a digital format (CD Rom) for possible publication on the Internet by OSHA. Three copies of the materials must be provided to OSHA. Acceptable formats for training materials include Microsoft Word 2000 and Microsoft PowerPoint 2000.

As listed in 29 CFR 95.36, the Department of Labor reserves a royalty-free, nonexclusive and irrevocable right to reproduce, publish, or otherwise use the work for Federal purposes, and to authorize others to do so.

Grantees developing training materials under the OSHA Training Materials Development grant category will be requested to post the approved final product training materials on their Web site for two years at no cost to users. OSHA may list the grantees' URL addresses to access these materials or directly link to the materials on the grantees' Web sites from OSHA's Web site. In addition, these grantees will also be requested to track and report quarterly to OSHA on the distribution and use of these training materials during the two years the materials are posted on their Web site. Grantees will collect and report on training materials product usage by tracking the number of times the grantee's training materials Web site was visited, and the number of times the training materials were downloaded.

2. OMB and regulatory requirements. Grantees are required to comply with the following documents.

• 29 CFR part 95, which covers grant requirements for nonprofit organizations, including universities and hospitals. These are the Department of Labor regulations implementing OMB Circular A-110.

• OMB Circular A-21, which describes allowable and unallowable costs for educational institutions.

• OMB Circular A-122, which describes allowable and unallowable costs for other nonprofit organizations.

• OMB Circular A-133, 29 CFR parts 96 and 99, which provides information about audit requirements.

• 29 CFR parts 31 and 36 as applicable.

3. Certifications. All applicants are required to certify to a drug-free workplace in accordance with 29 CFR part 98, to comply with the New Restrictions on Lobbying published at 29 CFR part 93, to make a certification regarding the debarment rules at 29 CFR part 98, and to complete a special lobbying certification.

4. Students. Grant-funded training programs must serve multiple employers and their employees.

5. Other. In keeping with the policies outlined in Executive Orders 13256, 12928, 13230, and 13021 as amended, the grantee is strongly encouraged to provide subgranting opportunities to Historically Black Colleges and Universities, Hispanic Serving Institutions and Tribal Colleges and Universities.

6. Acknowledgment of Federal Funds. When issuing statements, press releases, requests for proposals, bid solicitations, and other documents describing projects or programs funded in whole or in part with Federal money, all grantees receiving Federal funds shall clearly state: (1) The percentage of the total costs of the program or project that will be financed with Federal money; (2) the dollar amount of Federal funds for the project or program; and (3) percentage and dollar amount of the total costs of the project or program that will be financed by non-governmental sources.

What Information Must My Application Contain?

Separate grant applications must be submitted by organizations interested in applying under more than one grant category and by organizations applying for more than one topic under a grant category.

To be considered for a Harwood grant, an application must include all of the information listed in this notice. In addition, all applicants should obtain and review the grant application package before preparing and submitting their grant application. A complete application will contain the following forms and narrative.

1. Application for Federal Assistance form (SF 424).

2. Survey on Ensuring Equal Opportunity for Applicants.

3. Program Summary. The program summary is a short one-to-two page abstract that summarizes the proposed project and provides information about the applicant organization.

4. Budget Information forms (SF 424A).

5. Detailed Budget Backup.

6. Program Narrative, not to exceed 30 pages in length, which includes: Problem Statement/Need for Funds; Managerial Experience; Program Experience; Workplan.

7. Assurances form (SF 424B).

8. Certifications form (OSHA 189).

9. Supplemental Certification Regarding Lobbying Activities form.

10. Organizational Chart.

11. Evidence of Non-Profit Status, if applicable.

12. Accounting System Certification, if applicable.

What Are OSHA's Preference Areas for Grant Applications for All Three Grant Categories?

OSHA will give preference to applications that:

• Train managers or supervisors in addition to workers.

• Contribute non-Federal resources towards the grant. While applicants are not required to do so, preference will be given to organizations that contribute non-Federal resources.

• Propose to reach and serve one or more categories of workers within the target audience. The target audience includes small business and minority business employers and employees, non-English speaking, immigrant, minority workers, and youth as well as workers employed in high hazard industries and industries with high fatality rates.

How Are Applications for the Targeted Topic Grants Reviewed and Rated?

OSHA staff will review grant applications and present the results to the Assistant Secretary who will make the selection of organizations to be awarded grants. OSHA may award grants for some or all of the listed training topic areas. The following factors will be considered in evaluating grant applications.

1. Program Design

a. The proposed training and education program addresses one of the eight selected training topics. Please refer back to the What are the training topics for the Targeted Topic grants? section for details on the selected training topics.

1. Construction hazards.

• Programs that train workers and employers in the recognition and prevention of fall hazards in residential and commercial construction, especially wireless communication and HDTV tower construction.

• Programs that train workers and employers in the recognition and prevention of highway construction work zone and traffic control hazards.

• Programs that train workers and employers in the recognition and prevention of noise hazards in the construction industry.

2. General industry hazards. Programs that address the recognition and prevention of safety and health hazards in the following industries.

• Landscaping/horticultural services.

• Oil and gas field operations.

• Food processing industry involved in preserving fruits and vegetables.

• Industries involved in the manufacture of concrete, gypsum and plaster products.

• Blast furnace and basic steel products.

• Ship and boat building and repair.

• Public warehousing and storage.

3. Transportation Fatalities.

• Programs that train workers and employers about the principles of safe driving and the prevention of transportation fatalities.

4. Workplace Violence.

• Programs that train workers and employers about what can be done to prevent workplace violence.

5. Emergency Preparedness and Response.

• Programs that train and assist employers in establishing workplace emergency response plans and that train workers and employers on preparing to respond to emergency situations at their workplaces. Applicants may propose training programs that address emergency preparedness for any industry covered by the Occupational Safety and Health Act. Training programs should include information on developing and maintaining comprehensive emergency action plans and should focus on occupational safety and health requirements such as egress, evacuation policies and procedures, and fire safety protection plans. Other relevant workplace emergency preparedness topics that can be included or proposed under this topic include biological hazards and chemical hazards.

6. Lead Exposure.

• Programs that train construction or general industry employers and workers about the recognition of lead hazards within their industry and the prevention of exposure.

7. Silica Exposure.

• Programs that train construction or general industry employers and workers about the recognition of silica hazards within their industry and the prevention of exposure.

8. Small Business Topic (safety and health management systems).

• Programs that develop curricula and conduct training programs that promote the value of safety and health to small businesses and assist employers to establish safety and health management systems. The programs should be based on business case studies tailored to specific industries that demonstrate the value of safety and health management systems.

b. The proposal plans to train workers and/or employers and clearly estimates the numbers to be trained, and clearly identifies the types of workers and employers to be trained. The training will reach workers and employers from multiple employers.

Training materials and programs are to be tailored to the training needs of one or more of the following audiences: small businesses, minority businesses, non-English speaking, immigrant, minority workers, and youth as well as workers in high-hazard industries and industries with high fatality rates.

c. If the proposal contains a train-the-trainer program, the following information must be provided:

—What ongoing support the grantee will provide to new trainers;

—the number of individuals to be trained as trainers;

—the outline of the course curriculum that will be used by the new trainers to teach their students;

—the estimated number of courses to be conducted by the new trainers;

—the estimated number of students to be trained by these new trainers; and

—a description of how the new trainers will report back to the grantee about their classes and student numbers.

d. The planned activities and training are tailored to the needs and levels of the workers and employers to be trained.

e. There is a plan to recruit trainees for the program.

f. If the proposal includes developing educational materials, there is a plan for OSHA to review the materials during development.

g. There is a plan to evaluate the program's effectiveness and impact to determine if the safety and health training and services provided resulted in workplace change. This includes a description of the evaluation plan to follow up with trainees to determine the impact the program has had in abating hazards and reducing worker injuries.

h. There is a description of the target population, the hazards that will be addressed, the barriers that have prevented adequate training for the target population, why the program cannot be completed without Federal funds, and why funding sources currently available cannot be used for this purpose.

2. Program Experience

a. The organization applying for the grant demonstrates experience with occupational safety and health. Nonprofit organizations, including community-based and faith-based organizations, that do not have prior experience in providing safety and health training to workers or employers may partner with an established safety and health organization to acquire safety and health expertise.

b. The organization applying for the grant demonstrates experience in training adults in work-related subjects or in providing services to its target audience.

c. The staff to be assigned to the project has experience in occupational safety and health, the specific topic chosen, and training adults.

d. The organization applying for the grant demonstrates experience in recruiting, training, and working with the population it proposes to serve under the grant.

3. Administrative Capability

a. The applicant organization demonstrates experience managing a variety of programs.

b. Any Federal and/or State grants that your organization has administered over the past five years are listed.

c. The application is complete, including forms, budget detail, narrative and workplan, and required attachments.

4. Budget

a. The budgeted costs are reasonable.

b. The budget complies with Federal cost principles (which can be found in applicable OMB Circulars) and with OSHA budget requirements contained in the grant application instructions.

c. The cost per trainee is less than $500 and the cost per training hour is reasonable.

In addition to the factors listed above, the Assistant Secretary will take other items into consideration, such as the geographical distribution of the grant programs and the coverage of populations at risk.

How Are Applications for the OSHA Training Materials Development Grants Reviewed and Rated?

OSHA staff will review grant applications and present the results to the Assistant Secretary who will make the selection of organizations to be awarded grants. OSHA may award grants for some or all of the listed training materials development topic areas.

Grantees will be expected to develop, evaluate and validate training materials that are tailored to a specific topic, industry and target audience that could be used to supplement materials that are currently available from OSHA and other government agencies. More than one target audience may be selected. The training materials must include:

• Detailed description of the most dangerous tasks/job duties.

• Identification of the hazards associated with these tasks.

• Methods of abating these hazards.

• Training materials should be tailored directly to the target audience participant. Grantees will be expected to submit “classroom quality” products. Classroom quality materials should follow the commonly accepted Instruction Design (ISD) process that OSHA has adopted as a quality measure for all of its education and training products. The five ISD steps are: analysis, design, development, implementation, and evaluation.

• Grantees are to develop the training materials in a format that is suitable for hard-copy publication and distribution as well as Internet publication and distribution.

• Grantees will be requested to post the approved final product training materials on their Web site for two years at no cost to users. OSHA may list the grantees' URL addresses to access these materials or directly link to the materials on the grantees' Web sites from OSHA's Web site.

• Grantees will be requested to track and report quarterly to OSHA on the usage of the training materials developed under this grant. Standard usage statistics would include the number of times the training materials Web site was visited, and the number of times the training materials were downloaded from the Internet during the two-year period.

The following factors will be considered in evaluating grant applications.

1. Program Design

a. The proposed training and educational materials address one of the eight selected training materials topics. Please refer back to the What are the training materials development topics for the OSHA Training Materials Development grants? section for details on the selected training materials topics.

1. Construction hazards. Programs suitable for self-study as well as for training others in the recognition and prevention of one of the following workplace hazards.

• Fall hazards in residential and commercial construction, especially wireless communication and high-definition television (HDTV) tower construction.

• Highway construction work zone safety and traffic control hazards.

• Noise hazards in the construction industry.

2. General industry hazards. Programs suitable for self-study as well as for training others in the recognition and prevention of safety and health hazards in one of the following industries.

• Landscaping/horticultural services.

• Oil and gas field operations.

• Food processing industry involved in preserving fruits and vegetables.

• Industries involved in the manufacture of concrete, gypsum and plaster products.

• Blast furnace and basic steel products.

• Ship and boat building and repair.

• Public warehousing and storage.

3. Transportation Fatalities. Programs suitable for self-study as well as for training others in the principles of safe driving and the prevention of transportation fatalities.

4. Workplace Violence. Programs suitable for self-study as well as for training others about what can be done to prevent workplace violence.

5. Emergency Preparedness and Response. Programs suitable for employers to use for self-study on establishing workplace emergency response plans as well as for training others on preparing to respond to emergency situations at their workplaces. Applicants may propose training programs that address emergency preparedness for any industry covered by the Occupational Safety and Health Act.

Training programs should include information on developing and maintaining comprehensive emergency action plans and focus on occupational safety and health requirements such as egress, evacuation policies and procedures, and fire safety protection plans. Other relevant workplace emergency preparedness topics that can be included or proposed under this topic include biological hazards and chemical hazards.

6. Lead Exposure. Programs suitable for self-study as well as for training others in the recognition of lead hazards within their industry and the prevention of exposure. Program may address construction or general industry hazards and exposures.

7. Silica Exposure. Programs suitable for self-study as well as for training others in the recognition of silica hazards within their industry and the prevention of exposure. Program may address construction or general industry hazards and exposures.

8. Small Business Topic. Programs suitable for self-study as well as for training others that promote the value of safety and health to small businesses and assist employers to establish safety and health management systems. The program should be based on business case studies tailored to specific industries that demonstrate the value of safety and health management systems.

b. Training objectives are provided for each course or set of training materials.

c. The intended audience(s) for this training is identified.

d. The planned activities and training are tailored to the needs and levels of the workers and employers to be trained.

e. Proposed method(s) to evaluate and verify that training objectives will be met are described.

f. Tasks/job duties that will be discussed during training are described.

g. Occupational safety and health hazards associated with the featured tasks/job duties are described. An explanation of how these hazards were identified and a description of the method(s) being proposed to eliminate or control the hazards to be highlighted during the training process are provided.

h. A brief outline of the proposed course or training program content is provided.

i. A sample lesson/training module or a detailed description of the lesson/training module is included.

j. Description of the items that will be included in the final training materials are provided, such as instructor's manual, student manual, visual aids, videotapes, digital photos, computer-based training materials such as CD's or DVD's.

k. Proposal includes a plan for OSHA to review the educational materials during development.

l. Proposal explains how the grantee will track and report on the usage of the training materials during the two-year time period the materials are to be posted on the grantee's Web site.

Training programs and materials are to be tailored to the training needs of one or more of the following audiences: small businesses, minority businesses, non-English speaking, immigrant, and minority workers, and youth and workers in high-hazard industries or industries with high fatality rates.

2. Program Experience

a. The organization applying for the grant demonstrates experience with occupational safety and health. Nonprofit organizations, including community-based and faith-based organizations, that do not have prior experience in safety and health may partner with an established safety and health organization to acquire safety and health expertise.

b. The organization applying for the grant demonstrates experience in training adults in work-related subjects or in providing services to its target audience.

c. The staff to be assigned to the project has experience in occupational safety and health, the specific topic chosen, and training adults.

d. The organization applying for the grant demonstrates experience in recruiting, training, and working with the population it proposes to serve under the grant.

3. Administrative Capability

a. The applicant organization demonstrates experience managing a variety of programs.

b. Any Federal and/or State grants that your organization has administered over the past five years are listed.

c. The application is complete, including forms, budget detail, narrative and workplan, and required attachments.

4. Budget

a. The budgeted costs are reasonable.

b. The budget complies with Federal cost principles (which can be found in applicable OMB Circulars) and with OSHA budget requirements contained in the grant application instructions.

How Are Applications for the Ergonomics Guidelines Training Grants Reviewed and Rated?

OSHA staff will review grant applications and present the results to the Assistant Secretary who will make the selection of organizations to be awarded grants. OSHA may award grants for some of all of the listed ergonomics guidelines industries.

The following factors will be considered in evaluating grant applications.

1. Program Design

a. The proposed training and educational curricula and training program address the recognition and prevention of ergonomic hazards for workers and employers based on the new industry-specific ergonomic guidelines being developed by OSHA.

b. Applicants may propose to develop and conduct training programs for one or more of the four industries that guidelines will be available for.

c. Applicants may propose to develop and conduct training programs that are more comprehensive than the scope of the ergonomics guidelines.

d. The proposal plans to train workers and/or employers and clearly estimates the numbers to be trained, and clearly identifies the types of workers and employers to be trained. The training will reach workers and employers from multiple employers.

e. If the proposal contains a train-the-trainer program, the following information must be provided:

—What ongoing support the grantee will provide to new trainers;

—the number of individuals to be trained as trainers;

—the outline of the course curriculum that will be used by the new trainers to teach their students;

—the estimated number of courses to be conducted by the new trainers;

—the estimated number of students to be trained by these new trainers; and

—a description of how the new trainers will report back to the grantee about their classes and student numbers.

f. The planned activities and training are tailored to the needs and levels of the workers and employers to be trained.

g. There is a plan to recruit trainees for the program.

h. The proposal includes a plan for OSHA to review the materials during development.

i. There is a plan to evaluate the program's effectiveness and impact to determine if the safety and health services provided resulted in workplace change. This includes a description of the evaluation plan to follow up with trainees to determine the impact the program has had in abating hazards and reducing worker injuries.

j. There is a description of the target population, the hazards that will be addressed, the barriers that have prevented adequate training for the target population, why the program cannot be completed without Federal funds, and why funding sources currently available cannot be used for this purpose.

2. Program Experience

a. The organization applying for the grant demonstrates experience with occupational safety and health. Nonprofit organizations, including community-based and faith-based organizations, that do not have prior experience in providing safety and health training may partner with an established safety and health organization to acquire safety and health expertise.

b. The organization applying for the grant demonstrates experience in training adults in work-related subjects or in providing services to its target audience.

c. The staff to be assigned to the project has experience in occupational safety and health, the specific topic chosen, and training adults.

d. The organization applying for the grant demonstrates experience in recruiting, training, and working with the population it proposes to serve under the grant.

3. Administrative Capability

a. The applicant organization demonstrates experience managing a variety of programs.

b. Any Federal and/or State grants your organization has administered over the past five years are listed.

c. The application is complete, including forms, budget detail, narrative and workplan, and required attachments.

4. Budget

a. The budgeted costs are reasonable.

b. The budget complies with Federal cost principles (which can be found in applicable OMB Circulars) and with OSHA budget requirements contained in the grant application instructions.

c. The cost per trainee is less than $500 and the cost per training hour is reasonable.

In addition to the factors listed above, the Assistant Secretary will take other items into consideration, such as the geographical distribution of the grant programs and the coverage of populations at risk.

How Much Money Is Available for Grants?

Targeted Topic grants. There is approximately $2.8 million available for these grants. The Federal award will average $150,000.

OSHA Training Materials Development grants. There is approximately $4 million available for these grants. The Federal award will average $200,000.

New Ergonomics Guidelines Training grants. There is approximately $1 million available for these grants. The Federal award will average $100,000.

How Long Are Grants Awarded For?

Grants are awarded for a twelve-month period. The period of performance begins September 30, 2003, and ends September 29, 2004. The grant applicant's workplan should coincide with these dates.

How Do I Get a Grant Application Package?

Grant application instructions may be obtained from the OSHA Office of Training and Education, Division of Training and Educational Programs, 2020 S. Arlington Heights Road, Arlington Heights, Illinois 60005. The application instructions are also available at http://www.osha.gov/fso/ote/training/sharwood/sharwood.html.

When and Where Are Applications To Be Sent?

The application deadline is 4:30 p.m. central time, Thursday, July 3, 2003.

Submit one signed original and two copies of each application to Grants Officer, U.S. Department of Labor, OSHA Office of Training and Education, Division of Training and Educational Programs, 2020 S. Arlington Heights Road, Arlington Heights, Illinois 60005.

Each applicant assumes the risk for ensuring a timely submission of its application. If, because of mail or other problems, the Department does not receive an application or receives it after the closing deadline, even if the application was timely mailed, the Department will not consider the application. To be considered for funding, hand-delivered applications must be received not later than 4:30 p.m. central time on the July 3, 2003, at the specified address.

How Will I Be Told If My Application Was Selected?

Organizations selected as grant recipients will be notified by a representative of the Assistant Secretary, usually from an OSHA Regional Office. An applicant whose proposal is not selected will be notified in writing.

Notice that an organization has been selected as a grant recipient does not constitute approval of the grant application as submitted. Before the actual grant award, OSHA will enter into negotiations concerning such items as program components, funding levels, and administrative systems. If the negotiations do not result in an acceptable submittal, the Assistant Secretary reserves the right to terminate the negotiation and decline to fund the proposal.

Signed at Washington, DC, this 27th day of May, 2003.
John L. Henshaw,
Assistant Secretary of Labor.

[FR Doc. 03-13661 Filed 5-30-03; 8:45 am]

BILLING CODE 4510-26-P